DEPARTMENT OF COMMERCE

Foreign-Trade Zones Board

[B-32-2019]

Foreign-Trade Zone (FTZ) 84—Harris County, Texas; Authorization of Production Activity; Coreworks, LLC; (Brazed Aluminum Heat Exchangers and Cryogenic Equipment); Katy, Texas

On April 30, 2019, Coreworks, LLC submitted a notification of proposed production activity to the FTZ Board for its facility within FTZ 84, in Katy, Texas.

The notification was processed in accordance with the regulations of the FTZ Board (15 CFR part 400), including notice in the Federal Register inviting public comment (84 FR 20090, May 8, 2019). On August 28, 2019, the applicant was notified of the FTZ Board's decision that no further review of the activity is warranted at this time. The production activity described in the notification was authorized, subject to the FTZ Act and the FTZ Board's regulations, including § 400.14.

Dated: August 28, 2019.
Andrew McGilvray,
Executive Secretary.

[FR Doc. 2019-19177 Filed 9-4-19; 8:45 am]

BILLING CODE 3510-DS-P